DEPARTMENT OF ENERGY

Federal Energy Regulatory Commission

Combined Notice of Filings #1

Take notice that the Commission received the following electric corporate filings:

Docket Numbers: EC20-67-000.

Applicants: Broadview Energy JN, LLC, Broadview Energy KW, LLC.

Description: Supplement to May 15, 2020 Application for Authorization Under Section 203 of the Federal Power Act, et al. of Broadview Energy JN, LLC, et al.

Filed Date: 5/29/20.

Accession Number: 20200529-5510.

Comments Due: 5 p.m. ET 6/19/20.

Docket Numbers: EC20-69-000.

Applicants: Northern States Power Company, a Minnesota corporation, FPL Energy Mower County, LLC.

Description: Joint Application for Authorization Under Section 203 of the Federal Power Act, et al. of Northern States Power Company, a Minnesota corporation, et al.

Filed Date: 5/29/20.

Accession Number: 20200529-5521.

Comments Due: 5 p.m. ET 6/19/20.

Take notice that the Commission received the following exempt wholesale generator filings:

Docket Numbers: EG20-173-000.

Applicants: Little Bear Solar 1, LLC.

Description: Updated Notice of Self-Certification of Exempt Wholesale Generator Status of Little Bear Solar 1, LLC.

Filed Date: 5/29/20.

Accession Number: 20200529-5323.

Comments Due: 5 p.m. ET 6/19/20.

Docket Numbers: EG20-174-000.

Applicants: Calpine Northeast Development, LLC.

Description: Notice of Self-Certification of Exempt Wholesale Generator Status.

Filed Date: 5/29/20.

Accession Number: 20200529-5402.

Comments Due: 5 p.m. ET 6/19/20.

Docket Numbers: EG20-175-000.

Applicants: Cerro Gordo Wind, LLC.

Description: Notice of Self-Certification of Exempt Wholesale Generator Status of Cerro Gordo Wind, LLC.

Filed Date: 5/29/20.

Accession Number: 20200529-5405.

Comments Due: 5 p.m. ET 6/19/20.

Take notice that the Commission received the following electric rate filings:

Docket Numbers: ER10-1852-038.

Applicants: Florida Power & Light Company.

Description: Notification of Change in Status of Florida Power & Light Company.

Filed Date: 6/1/20.

Accession Number: 20200601-5150.

Comments Due: 5 p.m. ET 6/22/20.

Docket Numbers: ER10-2475-021; ER10-2474-021; ER10-2605-014; ER10-2611-021; ER10-2984-046; ER10-3246-015; ER11-2044-033; ER11-3876-024; ER12-162-028; ER12-1626-011; ER13-1266-029; ER13-1267-010; ER13-1268-010; ER13-1269-010; ER13-1270-010; ER13-1271-010; ER13-1272-010; ER13-1273-010; ER13-1441-010; ER13-1442-010; ER13-520-010; ER13-521-010; ER15-2211-026; ER16-1258-003; ER16-438-005; ER18-1419-002.

Applicants: Nevada Power Company, Sierra Pacific Power Company, PacifiCorp, Pinyon Pines Wind I, LLC, Pinyon Pines Wind II, LLC, Solar Star California XIX, LLC, Solar Star California XX, LLC, Topaz Solar Farms LLC, CE Leathers Company, Elmore Company, Del Ranch Company, Fish Lake Power LLC, Salton Sea Power Generation Company, Vulcan/BN Geothermal Power Company, Yuma Cogeneration Associates, Bishop Hill Energy II LLC, MidAmerican Energy Company, Cordova Energy Company LLC, Walnut Ridge Wind, LLC, Grande Prairie Wind, LLC, Marshall Wind Energy LLC, Saranac Power Partners, L.P., CalEnergy, LLC, MidAmerican Energy Services, LLC, Merrill Lynch Commodities, Inc., Salton Sea Power L.L.C.

Description: Notice of Non-Material Change in Status of the BHE MBR Sellers and Merrill Lynch Commodities, Inc.

Filed Date: 5/29/20.

Accession Number: 20200529-5534.

Comments Due: 5 p.m. ET 6/19/20.

Docket Numbers: ER10-2756-009.

Applicants: Griffith Energy LLC.

Description: Notice of Non-Material Change in Status of Griffith Energy LLC.

Filed Date: 5/29/20.

Accession Number: 20200529-5512.

Comments Due: 5 p.m. ET 6/19/20.

Docket Numbers: ER17-996-003.

Applicants: New York Independent System Operator, Inc.

Description: Compliance filing: Compliance to exclude State Program language as directed by FERC 5/12/20 Order to be effective 5/12/2020.

Filed Date: 5/29/20.

Accession Number: 20200529-5508.

Comments Due: 5 p.m. ET 6/19/20.

Docket Numbers: ER18-680-003.

Applicants: PJM Interconnection, L.L.C.

Description: Compliance filing: Compliance filing per Commission's 3/31/2020 Order in Docket No. ER18-680 to be effective 1/1/2018.

Filed Date: 6/1/20.

Accession Number: 20200601-5075.

Comments Due: 5 p.m. ET 6/22/20.

Docket Numbers: ER20-1926-000.

Applicants: Midcontinent Independent System Operator, Inc.

Description: § 205(d) Rate Filing: 2020-05-29_TOA Amendment Advisory Committee Affiliate Sector to be effective 7/29/2020.

Filed Date: 5/29/20.

Accession Number: 20200529-5252.

Comments Due: 5 p.m. ET 6/19/20.

Docket Numbers: ER20-1927-000.

Applicants: Midcontinent Independent System Operator, Inc., Consumers Energy Company.

Description: Compliance filing: 2020-05-29_Consumers' Compliance on Order 864 for ADIT to be effective 1/27/2020.

Filed Date: 5/29/20.

Accession Number: 20200529-5257.

Comments Due: 5 p.m. ET 6/19/20.

Docket Numbers: ER20-1928-000.

Applicants: Midcontinent Independent System Operator, Inc.

Description: § 205(d) Rate Filing: 2020-05-29_Attachment FF True-up Filing to be effective 6/1/2020.

Filed Date: 5/29/20.

Accession Number: 20200529-5259.

Comments Due: 5 p.m. ET 6/19/20.

Docket Numbers: ER20-1929-000.

Applicants: Baltimore Gas and Electric Company, PJM Interconnection, L.L.C.

Description: § 205(d) Rate Filing: BGE submits Revisions to PJM Tariff, Att. H-2A re: Stated Depreciation Rates to be effective 8/1/2020.

Filed Date: 5/29/20.

Accession Number: 20200529-5267.

Comments Due: 5 p.m. ET 6/19/20.

Docket Numbers: ER20-1930-000.

Applicants: Tri-State Generation and Transmission Association, Inc.

Description: § 205(d) Rate Filing: Certificate of Concurrence for Amended and Restated Service Agreement No. 854 to be effective 5/30/2020.

Filed Date: 5/29/20.

Accession Number: 20200529-5275.

Comments Due: 5 p.m. ET 6/19/20.

Docket Numbers: ER20-1931-000.

Applicants: Pacific Gas and Electric Company.

Description: § 205(d) Rate Filing: May 2020 Western Interconnection Agreement Biannual Filing to be effective 8/1/2020.

Filed Date: 5/29/20.

Accession Number: 20200529-5280.

Comments Due: 5 p.m. ET 6/19/20.

Docket Numbers: ER20-1932-000.

Applicants: Pacific Gas and Electric Company.

Description: § 205(d) Rate Filing: May 2020 Western WDT Service Agreement Biannual Filing to be effective 8/1/2020.

Filed Date: 5/29/20.

Accession Number: 20200529-5285.

Comments Due: 5 p.m. ET 6/19/20.

Docket Numbers: ER20-1933-000.

Applicants: PJM Interconnection, L.L.C.

Description: § 205(d) Rate Filing: Second Revised ISA, SA No. 4608; Queue No. AE2-155 to be effective 4/30/2020.

Filed Date: 5/29/20.

Accession Number: 20200529-5305.

Comments Due: 5 p.m. ET 6/19/20.

Docket Numbers: ER20-1934-000.

Applicants: Entergy Nuclear Indian Point 2, LLC.

Description: Tariff Cancellation: Entergy Nuclear Indian Point 2, LLC to be effective 6/1/2020.

Filed Date: 5/29/20.

Accession Number: 20200529-5504.

Comments Due: 5 p.m. ET 6/19/20.

Docket Numbers: ER20-1935-000.

Applicants: Tampa Electric Company.

Description: § 205(d) Rate Filing: Section 205 Solar Intangible Depreciation Filing—2020 to be effective 1/1/2019.

Filed Date: 5/29/20.

Accession Number: 20200529-5329.

Comments Due: 5 p.m. ET 6/19/20.

Docket Numbers: ER20-1936-000.

Applicants: Walnut Ridge Wind, LLC.

Description: § 205(d) Rate Filing: Reactive Power Compensation Tariff Filing to be effective 6/1/2020.

Filed Date: 5/29/20.

Accession Number: 20200529-5354.

Comments Due: 5 p.m. ET 6/19/20.

Docket Numbers: ER20-1937-000.

Applicants: California Independent System Operator Corporation.

Description: § 205(d) Rate Filing: 2020-05-29 EIM Implementation Agreement with Public Service Co—Colorado to be effective 7/31/2020.

Filed Date: 5/29/20.

Accession Number: 20200529-5435.

Comments Due: 5 p.m. ET 6/19/20.

Docket Numbers: ER20-1938-000.

Applicants: Southern California Edison Company.

Description: § 205(d) Rate Filing: LGIA Luz Solar Partners LTD., VIII, Kramer Junction 8 SA No. 247 to be effective 5/30/2020.

Filed Date: 5/29/20.

Accession Number: 20200529-5446.

Comments Due: 5 p.m. ET 6/19/20.

Docket Numbers: ER20-1939-000.

Applicants: Calpine Northeast Development, LLC.

Description: Baseline eTariff Filing: Application for Market-Based Rate Authorization under Section 205 of the FPA to be effective 5/30/2020.

Filed Date: 5/29/20.

Accession Number: 20200529-5454.

Comments Due: 5 p.m. ET 6/19/20.

Docket Numbers: ER20-1940-000.

Applicants: Agera Energy LLC.

Description: Tariff Cancellation: Tariff Cancellation to be effective 6/1/2020.

Filed Date: 5/29/20.

Accession Number: 20200529-5474.

Comments Due: 5 p.m. ET 6/19/20.

Docket Numbers: ER20-1941-000.

Applicants: Southwest Power Pool, Inc.

Description: § 205(d) Rate Filing: 3687 GridLiance High Plains & Evergy Kansas Central Int Agr to be effective 8/1/2020.

Filed Date: 5/29/20.

Accession Number: 20200529-5488.

Comments Due: 5 p.m. ET 6/19/20.

Docket Numbers: ER20-1942-000.

Applicants: Midcontinent Independent System Operator, Inc.

Description: § 205(d) Rate Filing: 2020-05-29_Conventional Deliverable ICAP Filing to be effective 8/12/2020.

Filed Date: 5/29/20.

Accession Number: 20200529-5493.

Comments Due: 5 p.m. ET 6/19/20.

Docket Numbers: ER20-1943-000.

Applicants: New England Power Pool Participants Committee.

Description: § 205(d) Rate Filing: June 2020 Membership Filing to be effective 5/1/2020.

Filed Date: 6/1/20.

Accession Number: 20200601-5006.

Comments Due: 5 p.m. ET 6/22/20.

Docket Numbers: ER20-1944-000.

Applicants: Alabama Power Company.

Description: § 205(d) Rate Filing: Attachment S (MPCo) 2020 Updated Depreciation Rates Filing to be effective 4/1/2020.

Filed Date: 6/1/20.

Accession Number: 20200601-5062.

Comments Due: 5 p.m. ET 6/22/20.

Docket Numbers: ER20-1945-000.

Applicants: Duke Energy Ohio, Inc., PJM Interconnection, L.L.C.

Description: § 205(d) Rate Filing: Duke Energy Ohio submits IA SA No. 5186 to be effective 7/31/2020.

Filed Date: 6/1/20.

Accession Number: 20200601-5064.

Comments Due: 5 p.m. ET 6/22/20.

Docket Numbers: ER20-1946-000.

Applicants: Beech Ridge Energy II LLC.

Description: § 205(d) Rate Filing: Amendment to Beech Ridge Energy II MBR Tariff to be effective 6/2/2020.

Filed Date: 6/1/20.

Accession Number: 20200601-5085.

Comments Due: 5 p.m. ET 6/22/20.

Docket Numbers: ER20-1947-000.

Applicants: Greenleaf Energy Unit 2 LLC.

Description: Baseline eTariff Filing: Rate Schedules and Agreements baseleine to be effective 6/2/2020.

Filed Date: 6/1/20.

Accession Number: 20200601-5129.

Comments Due: 5 p.m. ET 6/22/20.

Docket Numbers: ER20-1948-000.

Applicants: Potomac-Appalachian Highline Transmission, PJM Interconnection, L.L.C.

Description: Compliance filing: PATH submits Compliance Filing re: Order 864 to be effective 1/27/2020.

Filed Date: 6/1/20.

Accession Number: 20200601-5131.

Comments Due: 5 p.m. ET 6/22/20.

Docket Numbers: ER20-1949-000.

Applicants: Georgia Power Company.

Description: § 205(d) Rate Filing: JEA Scherer Unit 4 TSA 2020 GPCo Updated Depreciation Rate and Errata Filing to be effective 1/1/2020.

Filed Date: 6/1/20.

Accession Number: 20200601-5140.

Comments Due: 5 p.m. ET 6/22/20.

Docket Numbers: ER20-1950-000.

Applicants: Georgia Power Company.

Description: § 205(d) Rate Filing: FP&L Scherer Unit 4 TSA 2020 GPCo Updated Depreciation Rate and Errata Filing to be effective 1/1/2020.

Filed Date: 6/1/20.

Accession Number: 20200601-5142.

Comments Due: 5 p.m. ET 6/22/20.

Docket Numbers: ER20-1951-000.

Applicants: Mid-Atlantic Interstate Transmission, LLC, PJM Interconnection, L.L.C.

Description: Compliance filing: MAIT submits Compliance Filing re: Order 864 to be effective 1/27/2020.

Filed Date: 6/1/20.

Accession Number: 20200601-5141.

Comments Due: 5 p.m. ET 6/22/20.

Docket Numbers: ER20-1952-000.

Applicants: North Star Solar PV LLC.

Description: Baseline eTariff Filing: Reactive Power Compensation Filing to be effective 7/31/2020.

Filed Date: 6/1/20.

Accession Number: 20200601-5148.

Comments Due: 5 p.m. ET 6/22/20.

Docket Numbers: ER20-1953-000.

Applicants: AEP Texas Inc.

Description: § 205(d) Rate Filing: AEPTX-LCRA TSC Heines Facility Development Agreement to be effective 5/20/2020.

Filed Date: 6/1/20.

Accession Number: 20200601-5157.

Comments Due: 5 p.m. ET 6/22/20.

Docket Numbers: ER20-1954-000.

Applicants: ITC Great Plains, LLC, Southwest Power Pool, Inc.

Description: Compliance filing: ITC Great Plains, LLC Order No. 864 Compliance Filing to be effective 1/27/2020.

Filed Date: 6/1/20.

Accession Number: 20200601-5160.

Comments Due: 5 p.m. ET 6/22/20.

Docket Numbers: ER20-1955-000.

Applicants: Public Service Company of New Mexico.

Description: § 205(d) Rate Filing: PNM Compliance with Order No. 864 to be effective 1/27/2020.

Filed Date: 6/1/20.

Accession Number: 20200601-5172.

Comments Due: 5 p.m. ET 6/22/20.

Take notice that the Commission received the following electric reliability filings:

Docket Numbers: RR20-3-000.

Applicants: North American Electric Reliability Corp.

Description: North American Electric Reliability Corporation's Report of Comparison of Budgeted to Actual Costs for 2019 for NERC and the Regional Entities.

Filed Date: 5/29/20.

Accession Number: 20200529-5528.

Comments Due: 5 p.m. ET 6/19/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2020.
Nathaniel J. Davis, Sr.,
Deputy Secretary.

[FR Doc. 2020-12230 Filed 6-4-20; 8:45 am]

BILLING CODE 6717-01-P